GENERAL SERVICES ADMINISTRATION

[Notice-MV-2015-01; Docket No. 2015-0002; Sequence No. 8]

Public Availability of General Services Administration FY 2014 Service Contract Inventory

AGENCY: General Services Administration (GSA).

ACTION: Notice of public availability of FY 2014 Service Contract Inventories.

SUMMARY: In accordance with The Fiscal Year (FY) 2010 Consolidated Appropriations Act, GSA is publishing this notice to advise the public of the availability of the FY 2014 Service Contract Inventories.

DATES: April 21, 2015.

FOR FURTHER INFORMATION CONTACT: Questions regarding the Service Contract Inventory should be directed to Mr. Paul F. Boyle in the Office of Acquisition Policy at 202-501-0324 or paul.boyle@gsa.gov.

SUPPLEMENTARY INFORMATION: In accordance with section 743 of Division C of Fiscal Year (FY) 2010 Consolidated Appropriations Act (Pub. L. 111-117), GSA is publishing this notice to advise the public of the availability of the FY 2014 Service Contract Inventories. These inventories provide information on service contract actions over $25,000 that were made in FY 2014. The information is organized by function to show how contracted resources are distributed throughout the agency. The inventory has been developed in accordance with guidance issued on December 19, 2011 by the Office of Management and Budget's Office of Federal Procurement Policy (OFPP). OFPP's guidance is available at: http://www.whitehouse.gov/sites/default/files/omb/procurement/memo/service-contract-inventory-guidance.

The GSA has posted its inventory and a summary of the inventory on the GSA.gov homepage at the following link: http://www.gsa.gov/gsasci.

Dated: April 16, 2015.
Jeffrey A. Koses,
Senior Procurement Executive, Office of Acquisition Policy, Office of Government-wide Policy.

[FR Doc. 2015-09230 Filed 4-20-15; 8:45 am]

BILLING CODE 6820-61-P